NATIONAL AERONAUTICS AND SPACE ADMINISTRATION

[Notice 13-108]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 19, 2013.

FOR FURTHER INFORMATION CONTACT: James J. McGroary, Patent Counsel, Marshall Space Flight Center, Mail Code LS01, Huntsville, AL 35812; telephone (256) 544-0013; fax (256) 544-0258.

NASA Case No.: MFS-32944-1: Method and System for Weakening Shock Wave Strength at Leading Edge Surfaces of Vehicle in Supersonic Atmospheric Flight;

NASA Case No.: MFS-32737-1-CIP: Hermetic Seal Leak Detection Apparatus;

NASA Case No.: MFS-32830-1-CIP: Friction and Wear Management Using Solvent Partitioning of Hydrophilic-Surface-Interactive Chemicals Contained in Boundary Layer-Targeted Emulsions.

Sumara M. Thompson-King,
Deputy General Counsel.

[FR Doc. 2013-22719 Filed 9-18-13; 8:45 am]

BILLING CODE 7510-13-P